DEPARTMENT OF LABOR

Employment and Training Administration

“Financial and Program Reporting and Performance Standards System for Indian and Native American Programs, Under the Workforce Investment Act (WIA),” Title I-D, Section 166 of the Extension Without Change; Office of Management Budget (OMB) Control No. 1205-0422

AGENCY: Employment and Training Administration (ETA).

ACTION: Notice.

SUMMARY: The Department of Labor (DOL), as part of its continuing effort to reduce paperwork and respondent burden conducts a preclearance consultation to provide the general public and Federal agencies with an opportunity to comment on proposed and/or continuing collections of information in accordance with the Paperwork Reduction Act of 1995 (PRA 95) [44 U.S.C. 3506(c)(2)(A)]. This helps to ensure that requested data can be provided in the desired format, reporting burden (time and financial resources) is minimized, collection instruments are clearly understood, and the impact of collection requirements on respondents can be properly assessed.

The American Recovery and Reinvestment Act of 2009 (The Recovery Act), Division A, Title VIII, of Public Law 111-5, added a temporary funding increase for an Indian and Native American youth program component, requiring the collection of some additional data elements to ETA Form 9085. In addition, this information must now be collected monthly to properly account for Recovery Act funds.

This notice utilizes standard clearance procedures in accordance with the Paperwork Reduction Act of 1995 and 5 CFR 1320.12. This information collection follows an emergency review that was conducted in accordance with the Paperwork Reduction Act of 1995 and 5 CFR 1320.13. The submission for OMB emergency review was approved on August 27, 2009. A copy of this Information Collection Requirement can be obtained from the RegInfo.gov.

DATES: Written comments must be submitted to the office listed in the addressee's section below on or before January 4, 2010.

ADDRESSES: Submit written comments to the U.S. Department of Labor, Employment and Training Administration, Office of Workforce Investment, Attention: Mrs. Evangeline M. Campbell, Manager, Indian and Native American Program, Room N-4209, 200 Constitution Avenue, NW., Washington, DC 20210. Telephone number: 202-693-3737 (this is not a toll-free number).

SUPPLEMENTARY INFORMATION:

I. Background

Each Indian and Native American (INA) grantee receiving WIA Section 166 funds to administer the Comprehensive Services Program (CSP) is required to submit a CSP Report (ETA Form 9084) on a quarterly basis. Grantees receiving WIA Section 166 Supplemental Youth Services Program (SYSP) funds currently submit SYSP Report (ETA Form 9085) semi-annually. However, the request to modify and extend the existing ETA Form 9085 report submitted each quarter by INA grantees is based on the following:

The ETA requires the collection and reporting of data on eligible persons served under the WIA, Section 166 SYSP to assess the performance and delivery of services. The recent release of additional funds under the Recovery Act is intended to serve a greater number of youth and requires the collection and reporting of participant data to evaluate program performance.

INA grantees are now required to submit quarterly participant data reports on all youth served by the SYSP (see Frequency of Reporting below) and to distinguish between youth served with Recovery Act funds and youth served with regular WIA Section 166 funds and report “Recovery Act” youth through a supplemental (monthly) youth report. In this supplemental report, INA grantees report aggregate counts of all Recovery Act youth participants, including the characteristics of participants, the number of participants in summer employment, services received, attainment of a work readiness skill, required by the Recovery Act, and successful completion of summer youth employment.

The Recovery Act made it necessary to create additional fields in ETA Form 9085 because of: (1) A change in eligibility, increasing the age limit to 24; and (2) an emphasis on using funds for summer employment. By aligning Recovery Act with regular program reporting in ETA Form 9085, the grantees are reporting critical information with a minimal additional burden.

Changes to Youth Reporting

Changes made to the SYSP Report (ETA Form 9085) are provided below. Copies of ETA Forms 9084 and 9085 can be reviewed at: http://wdr.doleta.gov/directives/attach/TEGL/TEGL05-09a1.pdf.

Changes Made in Order To Incorporate Recovery Act Participants

• Reporting frequency will be monthly (Recovery Act Report only);

• Age requirement for eligibility has been increased to 24 (Recovery Act participants only);

• Collect information on participants in summer employment;

• Collect information on participants that exited summer employment;

• Collect information on participants that successfully completed work readiness;

• Collect information on participants that successfully completed summer employment;

• Work Readiness Attainment Rate added as an indicator; and

• Summer Employment Completion Rate added as an indicator.

Non-Recovery Act Changes To Apply to the Regular SYSP

• Reporting frequency changed from semi-annual to quarterly;

• Collect information on number of youth served with disabilities;

• Collect information on number of in-school youth served;

• Collect information on number of out-of-school youth served;

• Collect information on the number of youth served between the ages 14-18, 19-21; and

• Collect information on number of eligible veterans served.

II. Review Focus

The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: “Financial and Program Reporting and Performance Standards System for INA Programs under WIA Title I-D, Section 166.

OMB Number: 1205-0422.

Affected Public: Tribal Governments and Non-Profit Tribal Organizations.

Total respondents: 127 and 85.

Frequency of collection: Monthly and quarterly.

Total responses: 22,148.

Average time in hours per respondent: 24 for ETA Form 9084, 26 for ETA Form 9085 and 2.5 for the SPIR.

Estimated total burden hours: 90,262.

Total annual costs burden: $0.

Comments submitted in response to this request will be summarized and included in the request for OMB's approval of the information collection request and will become a matter of public record.

Signed at Washington, DC, this 15th day of October 2009.
Jane Oates,
Assistant Secretary, Employment and Training Administration.

[FR Doc. E9-26639 Filed 11-4-09; 8:45 am]

BILLING CODE 4510-FN-P